UNIFIED CARRIER REGISTRATION PLAN

Sunshine Act Meeting Notice; Unified Carrier Registration Plan Board Subcommittee Meeting

TIME AND DATE: March 25, 2021, from Noon to 2:00 p.m., Eastern time.

PLACE: This meeting will be accessible via conference call and via Zoom Meeting and Screenshare. Any interested person may call (i) 1-929-205-6099 (US Toll) or 1-669-900-6833 (US Toll) or (ii) 1-877-853-5247 (US Toll Free) or 1-888-788-0099 (US Toll Free), Meeting ID: 988 1565 4454, to listen and participate in this meeting. The website to participate via Zoom Meeting and Screenshare is https://kellen.zoom.us/j/98815654454.

STATUS: This meeting will be open to the public.

MATTERS TO BE CONSIDERED: The Unified Carrier Registration Plan Audit Subcommittee (the “Subcommittee”) will continue its work in developing and implementing the Unified Carrier Registration Plan and Agreement. The subject matter of this meeting will include:

Proposed Agenda

I. Call to Order—Subcommittee Chair

The Subcommittee Chair will welcome attendees, call the meeting to order, call roll for the Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—Subcommittee Chair

For Discussion and Possible Subcommittee Action

The Agenda will be reviewed, and the Subcommittee will consider adoption.

Ground Rules

Subcommittee action only to be taken in designated areas on agenda.

IV. Review and Approval of Minutes from the December 3, 2020 Meeting—Subcommittee Chair

For Discussion and Possible Subcommittee Action

Draft minutes from the December 3, 2020 Subcommittee meeting via teleconference will be reviewed. The Subcommittee will consider action to approve.

V. Update on the Tracking of Audit Data in the DSL Focused Anomaly Reviews (FARs)—Subcommittee Chair

The Subcommittee Chair will discuss the merits of the Subcommittee having an oversight role in the audit notes on closed audits regarding the FARs and MCS-150 databases when there is an indication of an error or insufficient documentation to close the audit.

VI. MCS-150 Retreat Audit Program—Subcommittee Chair and DSL Transportation

The Subcommittee Chair and DSL Transportation will lead a discussion regarding the MCS-150 retreat audit program provided by UCR and the progress made with participating states. States may opt into the program. States will remain engaged in the audit process but may have a lesser burden of having to attend to unresponsive/unproductive retreat audits.

VII. Review the Leasing Company Guidance for Large Leasing Companies (Penske)—Subcommittee Chair

The Subcommittee Chair will lead a discussion regarding potential conflicting guidance for these companies.

VIII. Intrastate Carriers Processing Payment—Subcommittee Chair and Subcommittee Vice Chair

The Subcommittee Chair and Subcommittee Vice Chair will lead a discussion regarding these carriers contacting their financial institution to withdraw payment and how this action leaves those carriers permanently on the UCR Suspension Report. The states have no way of removing them from the report. The Subcommittee may discuss options for resolution of these issues.

IX. Motor Carriers with Repeated Suspended Payments for a Registration Year—Subcommittee Chair and Subcommittee Vice Chair

The Subcommittee Chair and Subcommittee Vice Chair will lead a discussion regarding the resolution of these suspended payments.

X. Motor Carriers Suspended in a Prior Year, May be Reported Suspended for the Current Year—Subcommittee Chair and Subcommittee Vice Chair

The Subcommittee Chair and Subcommittee Vice Chair will lead a discussion regarding carriers that were suspended in a prior registration year, then properly paid registration fees for the current year, may now show suspended for both years. The Subcommittee will discuss options for the resolution of these suspended payments.

XI. Allowing Motor Carrier to Process 2020/2021 UCR on Inactive USDOT (inactivated 2014)—Subcommittee Chair and Subcommittee Vice Chair

The Subcommittee Chair and Subcommittee Vice Chair will lead a discussion regarding the suspended payments.

XII. Review the Requirements for the 2020 Annual State Audit Report—Subcommittee Chair

The Subcommittee Chair will lead a discussion regarding the reports and percentages for the annual report to the Board which is due by June 1, 2021.

XIII. Other Items—Subcommittee Chair

The Subcommittee Chair will call for any other items the committee members would like to discuss.

XIV. Adjournment—Subcommittee Chair

The Subcommittee Chair will adjourn the meeting.

The agenda will be available no later than 5:00 p.m. Eastern time, March 18, 2021 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2021-06151 Filed 3-22-21; 11:15 am]

BILLING CODE 4910-YL-P